DEPARTMENT OF COMMERCE

International Trade Administration

[C-549-856]

Silicon Metal From the Kingdom of Thailand: Alignment of Final Countervailing Duty Determination With Final Less-Than-Fair-Value Determinations

AGENCY: Enforcement and Compliance, International Trade Administration, Department of Commerce.

DATES: Applicable September 30, 2025.

FOR FURTHER INFORMATION CONTACT: Robert Hedberg and Amber Hodak, AD/CVD Operations, Office VI, Enforcement and Compliance, International Trade Administration, U.S. Department of Commerce, 1401 Constitution Avenue NW, Washington, DC 20230; telephone: (202) 482-0955 or (202) 482-8034, respectively.

SUPPLEMENTARY INFORMATION:

Background

On May 21, 2025, the U.S. Department of Commerce (Commerce) initiated the countervailing duty (CVD) investigation of silicon metal from the Kingdom of Thailand (Thailand).¹ Simultaneously, Commerce initiated the less-than-fair-value (LTFV) investigations of silicon metal from Angola, Australia, the Lao People's Democratic Republic, and Norway.² The CVD investigation and the LTFV investigations cover the same class or kind of merchandise.

¹ See Silicon Metal from Australia, the Lao People's Democratic Republic, Norway, and Thailand: Initiation of Countervailing Duty Investigations, 90 FR 21746 (May 21, 2025).

² See Silicon Metal from Angola, Australia, the Lao People's Democratic Republic, and Norway: Initiation of Less-Than-Fair-Value Investigations, 90 FR 21741 (May 21, 2025).

Alignment With Final LTFV Determinations

On September 23, 2025, in accordance with section 705(a)(1) of the Tariff Act of 1930, as amended (the Act), Ferroglobe USA, Inc. and Mississippi Silicon LLC (the petitioners) timely requested an alignment of the final CVD determination with the final LTFV determinations of silicon metal from Angola and the Lao People's Democratic Republic.³ Therefore, in accordance with section 705(a)(1) of the Act and 19 CFR 351.210(b)(4)(i), Commerce is aligning the final CVD determination of silicon metal from Thailand with the final LTFV determinations of silicon metal from Angola and the Lao People's Democratic Republic. Consequently, the final CVD determination will be issued on the same date as the final LTFV determinations, which are currently scheduled to be issued no later than December 15, 2025, unless postponed.

³ See Petitioners' Letter, “Petitioners' Request to Align Final Countervailing Duty Determination with the Less-Than-Fair-Value Final Determinations,” dated September 23, 2025.

This notice is issued and published pursuant to section 705(a)(1) of the Act and 19 CFR 351.210(b)(4)(i).

Dated: September 25, 2025.
Christopher Abbott,
Deputy Assistant Secretary for Policy and Negotiations, performing the non-exclusive functions and duties of the Assistant Secretary for Enforcement and Compliance.

[FR Doc. 2025-19035 Filed 9-29-25; 8:45 am]

BILLING CODE 3510-DS-P